DEPARTMENT OF TRANSPORTATION

Federal Railroad Administration

[Docket Number FRA-2007-28700]

Petition for Waiver of Compliance

Under part 211 of Title 49 Code of Federal Regulations (CFR), this provides the public notice that by a letter dated May 31, 2018, Kansas City Southern Railway Company (KCSR) petitioned the Federal Railroad Administration (FRA) for a modification of its waiver of compliance from certain provisions of the Federal railroad safety regulations contained at 49 CFR part 232. FRA assigned the petition Docket Number FRA-2007-28700.

By letter dated December 11, 2017, KCSR received an extension of its conditional relief (originally granted by FRA on January 18, 2008) from 49 CFR 232.205, Class I brake test-initial terminal inspection, and 49 CFR part 215, Freight car safety standards, for freight cars received in interchange at the U.S./Mexico border crossing in Laredo, Texas, to permit required inspections to be conducted in Laredo Yard, approximately 9 miles north of the interchange point. In its present petition, KCSR requests clarification to perform the Class III air brake test required by condition #5 of FRA's letter of December 11, 2017, at its Nuevo Laredo or Sanchez Yards, both of which are within 19 miles of its Laredo Yard. KCSR states that they and U.S. Customs and Border Protection (CBP) have been working collaboratively with Mexican authorities to solve border security and operational challenges of the International Bridge complex. KCSR states their experience operating trains through the complex has demonstrated that when northbound trains stop on the International Bridge to meet the waiver requirement of performing a Class III air brake test, they experience a significant amount of safety risk. KCSR further states having to stop on the International Bridge to perform the Class III air brake test actually increases the risk of equipment damage due to vandalism/theft and increases the risk to the community due to blocked crossings and heavy pedestrian traffic south of the border in Nuevo Laredo. The Department of Homeland Security and CBP have said that trains coming to a complete stop at the International Border presents the greatest opportunity for theft, contraband and/or trespassers to gain access to trains entering the United States. KCSR states its requested clarification to perform the elements of the Class III air brake test in Nuevo Laredo or Sanchez Yards would mitigate these public safety concerns.

A copy of the petition, as well as any written communications concerning the petition, is available for review online at www.regulations.gov and in person at the U.S. Department of Transportation's (DOT) Docket Operations Facility, 1200 New Jersey Avenue SE, W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted by any of the following methods:

• Website: http://www.regulations.gov. Follow the online instructions for submitting comments.

• Fax: 202-493-2251.

• Mail: Docket Operations Facility, U.S. Department of Transportation, 1200 New Jersey Avenue SE, W12-140, Washington, DC 20590.

• Hand Delivery: 1200 New Jersey Avenue SE, Room W12-140, Washington, DC 20590, between 9 a.m. and 5 p.m., Monday through Friday, except Federal Holidays.

Communications received by August 23, 2018 will be considered by FRA before final action is taken. Comments received after that date will be considered if practicable.

Anyone can search the electronic form of any written communications and comments received into any of our dockets by the name of the individual submitting the comment (or signing the document, if submitted on behalf of an association, business, labor union, etc.). In accordance with 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacyNotice for the privacy notice of regulations.gov.

Issued in Washington, DC.
Robert C. Lauby,
Associate Administrator for Railroad Safety, Chief Safety Officer.

[FR Doc. 2018-15795 Filed 7-23-18; 8:45 am]

BILLING CODE 4910-06-P